DEPARTMENT OF COMMERCE

International Trade Administration

[A-427-602; A-475-601; A-588-704]

Brass Sheet and Strip From France, Italy, and Japan: Final Results of the Expedited Third Sunset Reviews of the Antidumping Duty Orders

AGENCY: Import Administration, International Trade Administration, Department of Commerce.

DATES: Effective Date: July 7, 2011.

SUMMARY: On March 1, 2011, the Department of Commerce (“Department”) published in the Federal Register the notice of initiation of the third Sunset review of the antidumping duty orders on brass sheet and strip from France, Italy, and Japan, pursuant to section 751(c) of the Tariff Act of 1930, as amended (“the Act”). The Department has conducted expedited Sunset reviews of these orders pursuant to section 751(c)(3)(B) of the Act and 19 CFR 351.218(e)(1)(ii)(C)(2). As a result of the Sunset reviews, the Department finds that revocation of the antidumping duty orders would be likely to lead to continuation or recurrence of dumping at the margins identified in the “Final Results of Review” section of this notice.

FOR FURTHER INFORMATION CONTACT: Mahnaz Khan or Yasmin Nair, AD/CVD Operations, Office 1, Import Administration, International Trade Administration, U.S. Department of Commerce, 14th Street and Constitution Avenue, NW., Washington, DC 20230; telephone (202) 482-0914 and (202) 482-3813, respectively.

SUPPLEMENTARY INFORMATION:

Background

The antidumping duty orders on brass sheet and strip from France and Italy were published in the Federal Register on March 6, 1987. See Antidumping Duty Order: Brass Sheet and Strip From France, 52 FR 6995 (March 6, 1987); Antidumping Duty Order: Brass Sheet and Strip From Italy, 52 FR 6997 (March 6, 1987), amended at Amendment to Final Determination of Sales at Less Than Fair Value and Amendment of Antidumping Duty Order in Accordance with Decision Upon Remand: Brass Sheet and Strip from Italy, 56 FR 23272 (May 21, 1991). On August 12, 1988, the Department issued an antidumping duty order on imports of brass sheet and strip from Japan. See Antidumping Duty Order of Sales at Less Than Fair Value; Brass Sheet and Strip From Japan, 53 FR 30454 (August 12, 1988).

On March 1, 2011, the Department initiated the third Sunset reviews of these orders, pursuant to section 751(c) of the Act. See Initiation of Five-Year (“Sunset”) Review, 76 FR 11202 (March 1, 2011). The Department received a notice of intent to participate from domestic interested parties GBC Metals, LLC of Global Brass and Copper, Inc., doing business as Olin Brass; Heyco Metals, Inc.; Luvata North America, Inc. (previously Outokumpu American Brass); PMX Industries, Inc.; Revere Copper Products, Inc.; International Association of Machinists and Aerospace Workers; United Auto Workers (Local 2367 and Local 1024); and United Steelworkers AFL-CIO CLC (collectively, “Petitioners”), within the deadline specified in 19 CFR 351.218(d)(1)(i). Petitioners claimed interested party status under section 771(9)(C) of the Act as a manufacturer, producer, or wholesaler in the United States of a domestic like product, or under 771(9)(D) of the Act as a certified union or recognized union or group of workers representative of an industry engaged in the manufacture, production, or wholesale in the United States of a domestic like product.

On March 31, 2011, the Department received a substantive response from Petitioners. In addition to meeting the other requirements of 19 CFR 351.218(d)(3), Petitioners provided information on the volume and value of exports of brass sheet and strip from France, Italy, and Japan. On May 5, 2011, the Department received Petitioners' comments regarding the adequacy of responses and the appropriateness of an expedited review. The Department received no responses from respondent interested parties to these proceedings. As a result, pursuant to section 751(c)(3)(B) of the Act and 19 CFR 351.218(e)(1)(ii)(C)(2), the Department conducted expedited (120-day) Sunset reviews of the antidumping duty orders on brass sheet and strip from France, Italy, and Japan.

Scope of the Orders

The product covered by the orders is brass sheet and strip, other than leaded and tinned brass sheet and strip, from France, Italy, and Japan. The chemical composition of the covered product is currently defined in the Copper Development Association (“C.D.A.”) 200 Series or the Unified Numbering System (“U.N.S.”) C2000. The orders do not cover products the chemical compositions of which are defined by other C.D.A. or U.N.S. series. In physical dimensions, the product covered by the orders has a solid rectangular cross section over 0.006 inches (0.15 millimeters) through 0.188 inches (4.8 millimeters) in finished thickness or gauge, regardless of width. Coiled, wound-on-reels (traverse wound), and cut-to-length products are included. The merchandise is currently classified under Harmonized Tariff Schedule of the United States (“HTSUS”) item numbers 7409.21.00 and 7409.29.00.

Although the HTSUS item numbers are provided for convenience and customs purposes, the written description of the scope of the orders remains dispositive.

Analysis of Comments Received

All issues raised in this review are addressed in the Issues and Decision Memorandum (“Decision Memorandum”) from Christian Marsh, Deputy Assistant Secretary for Antidumping and Countervailing Duty Operations, to Paul Piquado, Acting Deputy Assistant Secretary for Import Administration, dated June 29, 2011, which is hereby adopted by this notice. The issues discussed in the Decision Memorandum include the likelihood of continuation or recurrence of dumping and the magnitude of the margins likely to prevail if the orders were revoked. Parties can find a complete discussion of all issues raised in these reviews and the corresponding recommendations in this public memorandum, which is on file in the Central Records Unit in room 7046 of the main Commerce building.

In addition, a complete version of the Decision Memorandum can be accessed directly on the Internet at http://ia.ita.doc.gov/frn. The paper copy and electronic version of the Decision Memorandum are identical in content.

Final Results of Review

Pursuant to sections 752(c)(1) and (3) of the Act, we determine that revocation of the antidumping duty orders on brass sheet and strip from France, Italy and Japan would be likely to lead to continuation or recurrence of dumping at the following weighted-average percentage margins:

Manufacturers/producers/exporters | Margin (percent)
France:
Trefimetaux S.A | 42.24
All Others | 42.24
Italy:
LMI-La Metalli Industriale, S.p.A | 5.44
All Others | 5.44
Japan:
Nippon Mining Co., Ltd | 57.98
Sambo Copper Alloy Co., Ltd | 13.30
Mitsubishi Shindoh Co., Ltd | 57.98
Kobe Steel, Ltd | 57.98
All Others | 45.72

This notice also serves as the only reminder to parties subject to administrative protective order (“APO”) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing the final results and notice in accordance with sections 751(c), 752(c), and 777(i)(1) of the Act.

Dated: June 29, 2011.
Paul Piquado,
Acting Deputy Assistant Secretary for Import Administration.

[FR Doc. 2011-17064 Filed 7-6-11; 8:45 am]

BILLING CODE 3510-DS-P